DEPARTMENT OF HEALTH AND HUMAN SERVICES

National Institutes of Health

Center for Scientific Review; Cancellation of Meeting

Notice is hereby given of the cancellation of the Cancer Genetics Study Section, February 12, 2004, 8 a.m. to February 13, 2004, 5 p.m., Churchill Hotel, 1914 Connecticut Avenue, NW., Washington, DC 20009 which was published in the Federal Register on January 14, 2004, 69 FR 2151-2153.

The meeting is cancelled due to a lack of quorum.

Dated: January 20, 2004
Laverne Y. Stringfield,
Director, Office of Federal Advisory Committee Policy.

[FR Doc. 04-1703 Filed 1-26-04; 8:45 am]

BILLING CODE 4140-01-M